DEPARTMENT OF THE TREASURY

Internal Revenue Service

Privacy Act of 1974; System of Records

AGENCY: Internal Revenue Service, Treasury.

ACTION: Notice of Proposed New Privacy Act System of Records.

SUMMARY: In accordance with the requirements of the Privacy Act of 1974, as amended, 5 U.S.C. 552a, the Treasury Department, Internal Revenue Service, gives notice of a newly proposed system of records, Treasury/IRS 60.000—Employee Protection System Records. A portion of the existing systems of records (1) Assault and Threat Investigation Files, Inspection—Treasury/IRS 60.001 addressing potentially dangerous taxpayers and (2) the Miscellaneous Information File, Inspection—Treasury/IRS 60.007, will be transferred to the proposed new system of records when the notice is effective.

DATES: Comments must be received no later than December 31, 2001. The system of records will be effective January 9, 2002, unless comments are received which result in a contrary determination.

ADDRESSES: Comments should be sent to the Office of Governmental Liaison and Disclosure, Internal Revenue Service, 1111 Constitution Ave., NW., Washington, DC 20224. Comments will be made available for inspection and copying in the National Office reading room upon request. An appointment for inspecting the comments can be made by calling (202) 622-5164. This is not a toll free number.

FOR FURTHER INFORMATION CONTACT: Chief, Office of Employee Protection, Internal Revenue Service, 477 Michigan Avenue, Detroit, MI, 48226, telephone (313) 628-3742. This is not a toll free number.

SUPPLEMENTARY INFORMATION: The Department is establishing the Employee Protection System Records system of records to enhance the security and safety of Internal Revenue Service employees who are engaged in the assessment and collection of federal taxes. This system will consist of information furnished by Internal Revenue Service employees or other parties with respect to an individual who is involved in a tax administration matter before the Internal Revenue Service. The records in this system will be maintained for a period of five years, after which the records will be reviewed to determine whether there is a need to maintain the information in the system. This system, being established as a result of the 1998 IRS Restructuring and Reform Act, will consist primarily of records of potentially dangerous taxpayers formerly maintained under the system of records entitled “Treasury/IRS 60.001—Assault and Threat Investigation Files, Inspection” and records pertaining to assaults, threats, harassment, and suicide threats maintained under the system of records entitled “Treasury/IRS 60.007—Miscellaneous Information File, Inspection.” Because parts of this system are retrieved by individual identifier, the Privacy Act of 1974, as amended, requires a general notice of the existence of this system of records to the public. The records contained in this system of records will include reports by Internal Revenue Service employees of incidents of threats of harm to, or harassment of, employees by individual taxpayers, threats of suicide made by a taxpayer in response to a contact by an Internal Revenue Service employee, results of investigations into those incidents, determinations as to whether the taxpayer should be considered a potentially dangerous taxpayer or a taxpayer who should be approached with caution, and related correspondence.

The new system of records report, as required by 5 U.S.C. 552a(r) of the Privacy Act, has been submitted to the Committee on Government Operations of the House of Representatives, the Committee on Governmental Affairs of the Senate, and the Office of Management and Budget, pursuant to Appendix I to OMB Circular A-130, “Federal Agency Responsibilities for Maintaining Records About Individuals,” dated November 30, 2000.

The proposed system of records, Treasury/IRS 60.000—Employee Protection System Records, is published in its entirety below.

Dated: November 7, 2001.
W. Earl Wright, Jr.,
Chief Management and Administrative Programs Officer.

Treasury/IRS 60.000

System name:

Employee Protection System Records.

System location:

Internal Revenue Service, 477 Michigan Avenue, Detroit, Michigan.

Categories of individuals covered by the system:

Individuals attempting to interfere with the administration of internal revenue laws through assaults, threats, suicide threats, harassment, filing or threats of filing frivolous criminal or civil legal action against Internal Revenue Service (IRS) employees or the employees' immediate family members, or forcible interference of any officer or employee while discharging the official duties at his/her position. This includes individuals designated as potentially dangerous taxpayers (PDTs), based on reliable evidence or information, from IRS employees or otherwise furnished to the IRS or the Treasury Inspector General for Tax Administration (TIGTA), that fit any of the criteria (1) through (5) below: (1) Individuals who assault employees or members of the employees' immediate families; (2) Individuals who attempt to intimidate or threaten employees or members of the employees' immediate families through specific threats of bodily harm, a show of weapons, the use of animals, or through other specific threatening or intimidating behavior; (3) Individuals who are active members of groups that advocate violence against Internal Revenue Service employees specifically, or against Federal employees generally where advocating such violence could reasonably be understood to threaten the safety of Service employees and impede the performance of their official duties; (4) Individuals who have committed the acts set forth in any of the above criteria, but whose acts have been directed against employees of other governmental agencies at Federal, State, county, or local levels; (5) Individuals who are not designated as potentially dangerous taxpayers through application of the above criteria, but who have demonstrated a clear propensity toward violence through act(s) of violent behavior within the five-year period immediately preceding the time of referral of the individual to the Employee Protection System. (6) These records also include individuals who have threatened suicide and individuals who have filed or threatened to file a frivolous civil or criminal legal action (including liens, civil complaints in a court, and criminal charges) against any IRS employee.

Categories of records in the system:

(1) Documents reporting the incident; (2) Documentary evidence of the incident (i.e. threatening correspondence, copies of liens and legal actions); (3) Documentation of investigation of incident, with possible report of investigation, statements, affidavits, and related tax information; (4) Records of any legal action resulting from the incident; (5) Local police records of individual named in the incident, if such records are requested or otherwise provided during investigation of the incident; (6) FBI record of individual named in the incident, if such records are requested or otherwise provided during investigation of the incident; (7) Newspaper or periodical items, or information from other sources, provided to the IRS or to TIGTA for investigation of individuals who have demonstrated a clear propensity toward violence; (8) Correspondence regarding the reporting of the incident, referrals for investigation, investigation of the incident; and result of investigation (i.e. designation as potentially dangerous taxpayer, or other designation to alert IRS employees to approach the individual with caution).

Authority for maintenance of the system:

5 U.S.C. 301; 26 U.S.C. 7801 and 7803.

Purpose(s):

This system of records documents reports by Internal Revenue Service employees of attempts by taxpayers to obstruct or impede Internal Revenue Service employees or other law enforcement personnel in the performance of their official duties, investigations into the matters reported, and conclusions as to whether the taxpayers should be considered potentially dangerous taxpayers or should otherwise be approached with caution by employees of the Internal Revenue Service or any other law enforcement organization.

Routine uses of records maintained in the system, including categories of users and the purposes of such use:

Disclosure of returns and return information may be made only as provided by 26 U.S.C. 6103. Records other than returns or return information may be used to:

(1) Disclose pertinent information to appropriate Federal, State, local, or foreign agencies responsible for investigating or prosecuting the violations of, or for enforcing or implementing, a statute, rule, regulation, order, or license, where the disclosing agency becomes aware of an indication of a violation or potential violation of a civil or criminal law or regulation;

(2) Disclose information to a Federal, State, or local agency maintaining civil, criminal or other relevant enforcement information or other pertinent information, which has requested information relevant to or necessary to the requesting agency's or the bureau's hiring or retention of an individual, or issuance of a security clearance, license, contract, grant, or other benefit;

(3) Disclose information in a proceeding before a court, adjudicative body, or other administrative body, before which the agency is authorized to appear when: (a) The agency, or (b) any employee of the agency in his or her official capacity, or (c) any employee of the agency, in his or her individual capacity where the Department of Justice or the agency has agreed to represent the employee, or (d) the United States, when the agency determines that the litigation is likely to affect the agency, is a party to litigation or has an interest in such litigation, and the use of such records by the agency is deemed to be relevant and necessary and not otherwise privileged;

(4) Provide information to a congressional office in response to an inquiry made at the request of the individual to whom the record pertains;

(5) Provide information to the news media in accordance with guidelines contained in 28 CFR 50.2 which relate to an agency's functions relating to civil and criminal proceedings, and

(6) Provide information to third parties during the course of an investigation to the extent necessary to obtain information pertinent to an investigation of the incident reported in the record.

Policies and practices for storing, retrieving, accessing, retaining, and disposing of records in the system:

Storage:

Paper, or magnetic or electronic media.

Retrievability:

By name of individual to whom the record applies, by name of Internal Revenue Service employee reporting an incident, by identification number of the individual to whom the record pertains, by subject or incident involved, and/or by case number.

Safeguards:

Access controls will not be less than those provided by the Physical Security Handbook, IRM 1.16 and the Automated Information System Security Handbook, IRM 2.10. The records are accessible to employees of the Office of Employee Protection and to personnel of the Treasury Inspector General for Tax Administration, all on a need-to-know basis, and all of whom have been the subject of a background investigation. Disclosure of information through remote terminals is restricted through the use of passwords and sign-on protocols which are periodically changed; these terminals are accessible only to authorized persons.

Retention and disposal:

Records are maintained in accordance with IRM Handbook No. 1.15.

System manager(s) and address:

Chief, Office of Employee Protection, Internal Revenue Service, 477 Michigan Avenue, Detroit, Michigan.

Notification procedure:

This system of records may not be accessed for purposes of determining if the system contains a record pertaining to a particular individual.

Record access procedures:

This system is exempt and may not be accessed for purposes of inspection or for contest of content of records.

Contesting record procedures:

26 U.S.C. 7852(e) prohibits Privacy Act amendment of tax records.

Record source categories:

This system of records is exempt from the Privacy Act provision that requires the record source categories be reported.

Exemptions claimed for the system:

This system is exempt from 5 U.S.C. 552a(c)(3), (d), (e)(1), (e)(4)(G), (H), and (I) and (f) of the Privacy Act pursuant to 5 U.S.C. 552a(k)(2). (See 31 CFR 1.36)

[FR Doc. 01-29709 Filed 11-29-01; 8:45 am]

BILLING CODE 4830-01-P